DEPARTMENT OF DEFENSE

Office of the Secretary

[Docket ID: DOD-2011-OS-0139]

Submission for OMB Review; Comment Request

Correction

In notice document 2011-31229 appearing on page 76149 in the issue of December 6, 2011, make the following correction:

On page 76149, in the first column, in the DATES section, in the second line, “[insert 15 days from publication in the Federal Register]”, should read “December 21, 2011”.

[FR Doc. C1-2011-31229 Filed 12-8-11; 8:45 am]

BILLING CODE 1505-01-D